DEPARTMENT OF DEFENSE

Department of the Navy

[Docket ID USN-2023-HQ-0002]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by May 22, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION: Title; Associated Form; and OMB Number: Naval Sea Systems Command and Field Activity Visitor Access Request; NAVSEA Forms 5500/1 and 5500/9; OMB Control Number 0703-0055.

Type of Request: Revision.

NAVSEA Form 5500/1

Number of Respondents: 30,000.

Responses per Respondent: 1.

Annual Responses: 30,000.

Average Burden per Response: 5 minutes.

Annual Burden Hours: 2,500.

NAVSEA Form 5500/9

Number of Respondents: 1,980.

Responses per Respondent: 1.

Annual Responses: 1,980.

Average Burden per Response: 1 minute.

Annual Burden Hours: 33.

Total

Number of Respondents: 31,980.

Annual Responses: 31,980.

Annual Burden Hours: 2,533.

Needs and Uses: The information collection requirement is necessary for Naval Sea Systems Command and Naval Sea Systems Command Field Activities at Washington Navy Yard, Washington, DC to verify that visitors have the appropriate credentials, clearance level, and need-to know to be granted access to NAVSEA spaces. Information is also collected for NAVSEA Security to keep a record of visitors to NAVSEA spaces. Individuals who wish to visit the NAVSEA Headquarters (HQ) building will need to sign a NAVSEA Form 5500/1, “NAVSEA Visitor's Sign In/Out Sheet,” at the NAVSEA Visitor Control Center (VCC). Respondents are visitors conducting official business or attending official or representational events and may be either escorted or unescorted. Respondents are Navy support contractors, individuals from other agencies visiting the Command and Field Activities, and various members of the public. Contractors may also complete and present a NAVSEA Form 5510/9, “NAVSEA Headquarters Contractor Access Request,” to have their CAC coded for daily access to NAVSEA facilities without having to report to the VCC. The NAVSEA 5510/9 must be renewed yearly or at the end of the contract.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: April 18, 2023.
Aaron T. Siegel,
Alternate OSD Federal Register Liaison Officer, Department of Defense.

[FR Doc. 2023-08508 Filed 4-20-23; 8:45 am]

BILLING CODE 5001-06-P